DEPARTMENT OF VETERANS AFFAIRS

Fund Availability Under the VA Homeless Providers Grant and Per Diem Program

AGENCY: Department of Veterans Affairs.

ACTION: Notice.

SUMMARY: VA is announcing the availability of funds for operational assistance under the per diem component of VA's Homeless Providers Grant and Per Diem Program. This Notice contains information concerning the program, application process, and amount of funding available.

DATES: An original completed and collated per diem application (plus four completed collated copies) for assistance under the VA Homeless Providers Grant and Per Diem Program must be received in the Grant and Per Diem Field Office, Tampa, FL, by 4 p.m. Eastern Time on August 14, 2002. Applications may not be sent by facsimile (FAX). In the interest of fairness to all competing applicants, this deadline is firm as to date and hour, and VA will treat as ineligible for consideration any application that is received after the deadline. Applicants should take this practice into account and make early submission of their material to avoid any risk of loss of eligibility brought about by unanticipated delays or other delivery-related problems.

ADDRESSES: For a Copy of the Application Package: Download directly from VA's Grant and Per Diem Program Web page at: http://www.va.gov/homeless/page.cfm?pg=3 or call the Homeless Providers Grant and Per Diem Program Office at (toll-free) 1-877-332-0334. For a document relating to the VA Homeless Providers Grant and Per Diem Program, see the final rule codified at 38 CFR 17.700.

Submission of Application: An original completed and collated per diem application (plus four copies) must be submitted to the following address: Grant and Per Diem Program, Department of Veterans Affairs, 10770 North 46th Street, Suite C-100, Tampa, FL 33617. Applications must be received in the Grant and Per Diem Field Office by the application deadline.

FOR FURTHER INFORMATION CONTACT: Roger Casey, VA Homeless Providers Grant and Per Diem Program, Department of Veterans Affairs, 10770 North 46th Street, Suite C-100, Tampa, FL 33617; (toll-free) 1-877-332-0334.

SUPPLEMENTARY INFORMATION: This Notice announces the availability of funds for assistance under VA's Homeless Providers Grant and Per Diem Program for eligible programs, established after November 10, 1992, or expanded after November 30, 1999, that have not previously applied for or received per diem in connection with a grant (see 38 CFR 17.716). This program is authorized by Public Law 107-95, the Homeless Veterans Comprehensive Service Programs Act of 1992, as amended. Funding applied for under this Notice may be used for aid for service centers and supportive housing. Funding will be in the form of per diem payments issued to eligible entities for an expected period not to exceed 36 months from the date of award, subject to availability of funds. For eligibility criteria please refer to 38 CFR Part 17.716.

VA is pleased to issue this Notice of Fund Availability (NOFA) for the Homeless Providers Grant and Per Diem Program. The Department expects to award approximately $13.5 million under this NOFA pending the availability of funds in Fiscal Year (FY) 2003.

Funding available under this NOFA is being offered to help offset the operating expenses of existing faith-based and community-based organizations that are capable of providing supported housing and/or supportive service center services for homeless veterans. It should be noted that the existing regulations that govern current procedures for per diem funding, limits VA payment to one-half of the cost of a day of care up to the per day rate VA pays for State Home Domiciliary care. Revised regulations are being prepared to adjust the per diem payment in accordance with 38 United States Code (USC) Section 2012. This may result in higher per diem payments once the final regulations are published.

Interested organizations should know that the vast majority of homeless veterans in this country suffer from mental illness or substance abuse disorders or are dually diagnosed with both mental illness and substance abuse disorders. In addition, many homeless veterans have serious medical problems. Collaboration with VA medical centers, VA community-based outpatient clinics or other health care providers is an important aspect of assuring that homeless veterans have access to appropriate health care services.

The Urban Institute's analysis of data collected through the 1996 National Survey of Homeless Providers and Clients indicates that 21 percent of the homeless population is found in rural and suburban locations. Over the last eight rounds of grants, VA awarded approximately $63 million to help establish 306 projects for homeless veterans. VA also provided funding in FY 2000 to support 53 existing programs in order to make additional supported housing services available to homeless veterans. To date, six states have no grant or per diem-funded programs available to serve homeless veterans. To date, six states have no grant or per diem-funded programs available to serve homeless veterans. These states include Alaska, Idaho, Kansas, Montana, North Dakota, and New Hampshire. Several other states have only one or two grant or per diem-funded programs. Also, only three grant and per diem-funded programs are affiliated with Native American Tribal Governments. VA is encouraging interested faith-based, community-based organizations, and Native American Tribal Governments from these states and rural areas of the country to apply for funding under this NOFA.

It is important to be aware that VA places great emphasis on responsibility and accountability. VA has procedures in place to monitor services provided to homeless veterans and outcomes associated with the services provided in grant and per diem-funded programs. VA is also implementing new procedures to further this effort. Interested faith-based and community-based organizations should be aware of the following:

• Each per diem-funded program will have a liaison appointed from a nearby VA medical facility to provide oversight and monitor services provided to homeless veterans in the per diem-funded program.

• Monitoring will include at least an annual review of each per diem program's progress toward meeting internal goals and objectives in helping veterans attain housing stability, adequate income support, and self sufficiency as identified in each per diem program's original application.

• Each per diem-funded program will participate in VA's national program monitoring and evaluation system administered by VA's Northeast Program Evaluation Center (NEPEC).

• It is the intention of VA to develop specific performance targets with respect to housing for homeless veterans. NEPEC's monitoring procedures will be used to determine successful accomplishment of these housing outcomes for each per diem-funded program.

VA encourages all eligible and interested entities to review this NOFA and consider applying for funds to provide service for homeless veterans.

Authority: VA's Homeless Providers Grant and Per Diem Program is authorized by Public Law 107-95 and has been extended through FY 2005. The program is implemented by the final rule codified at 38 CFR 17.700. The final rule was published in the Federal Register on June 1, 1994, and February 27, 1995, and revised February 11, 1997. The regulations can be found in their entirety in 38 CFR, Volume 1, Sec. 17.700 through 17.731. Funds made available under this Notice are subject to the requirements of those regulations.

Allocation: Approximately $13.5 million is available for the per diem component of this program. This funding is expected to be available for a maximum of 36 months from the date of award, subject to the availability of funds. In later years, continued payment is subject to availability of funds.

Application Requirements: The specific per diem application requirements will be specified in the application package. The package includes all required forms and certifications. Conditional selections will be made based on criteria described in the application. Applicants who are conditionally selected will be notified of the additional information needed to confirm or clarify information provided in the application. Applicants will then have approximately one month to submit such information. If an applicant is unable to meet any conditions for per diem award within the specified time frame, VA reserves the right to not award funds and to use the funds available for other applicants. Grant recipients who received prior year funding for acquisition, renovation or new construction need not reapply for per diem for those portions of their programs that were created with grant funds. Per diem for these programs is requested in the grant application and paid at the time of grant project completion. However, if such entities desire per diem for programs not funded by a grant award under VA's Homeless Providers Grant and Per Diem Program, an application responding to this NOFA is required.

Dated: June 24, 2002.
Anthony J. Principi,
Secretary of Veterans Affairs.

[FR Doc. 02-16402 Filed 6-27-02; 8:45 am]

BILLING CODE 8320-01-P